ENVIRONMENTAL PROTECTION AGENCY

[FRL-7152-9]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: For a copy of the ICR contact Susan Auby at EPA by phone at (202) 260-4901, by e-mail at Auby.susan@epamail.epa.gov, or download off the internet at http://www.epa.gov.icr and refer to EPA ICR No.

SUPPLEMENTARY INFORMATION:

OMB Responses to Agency Clearance Requests

OMB Approvals

EPA ICR No. 1367.06; Regulation of Fuels and Fuel Additives: Gasoline Volatility: Reporting Requirements in 40 CFR part 80.27; was approved 12/17/2001; OMB No. 2060-0178; expires 12/31/2004.

EPA ICR No. 1831.02, NESHAP for Ferroalloys Production in 40 CFR part 63 subpart XXX; was approved 12/17/2001; OMB No. 2060-0391; expires 12/31/2004.

EPA ICR No. 1800.02; Information Requirements for Locomotives and Locomotive Engines in 40 CFR part 92; was approved 12/14/2001; OMB No. 2060-0392; expires 12/31/2004.

EPA ICR No. 1805.03; National Emission Standards for Hazardous Air Pollutants for Chemical Recovery Combustion Sources at Kraft, Soda, Sulfite, and Stand-Alone Semichemical Pulp Mills; in 40 CFR part 63, subpart MM; was approved 12/14/2001; OMB No. 2060-0377; expires 12/31/2004.

EPA ICR No. 1573.07; Part B Permit Application, Permit Modifications, and Special Permits (Corrective Action Management Proposed Rule); in 40 CFR parts 264 and 270; was approved 12/12/2001; OMB No. 2050-0009; expires 03/31/2003.

EPA ICR No. 1935.01; Standardized Permit for RCRA Hazardous Waste; in 40 CFR parts 267 and 270, 264; was approved 12/12/2001; OMB No. 2050-0182; expires 12/31/2004.

EPA ICR No. 1669.03; Lead-based Pre-Renovation Information Dissemination—TSCA Sec. 406(b); in 40 CFR part 745, subpart E; was approved 12/13/2001; OMB No. 2070-0158; expires 12/31/2004.

EPA ICR No. 0938; General Administrative Requirement for Assistant Programs (Lobbying and Litigation Certification Amendment); was approved 12/13/2001; OMB No. 2030-0020; expires 12/31/2002.

EPA ICR No. 0309.10; Registration of Fuels and Fuel Additives: Requirements for Manufacturers in 40 CFR part 79; was approved 12/05/2001; OMB No. 2060-0150; expires 01/31/2004.

EPA ICR No. 1692.04; NESHAP for Petroleum Refineries in 40 CFR Part 63, subpart CC; was approved 12/05/2001; OMB No. 2060-0340; expires 12/05/2004.

EPA ICR No. 1591.13; Reformulated Gasoline and Conventional Gasoline; Requirements for Parties in the Gasoline Distribution Network; in 40 CFR part 80, subpart D,E,F; was approved 12/05/2001; OMB No. 2060-0277; expires 04/30/2004.

EPA ICR No. 0328.08; Spill Prevention, Control and Countermeasures (SPCC) Plans; in 40 CFR part 112; was approved 12/19/2001; OMB No. 2050-0021; expires 06/30/2002.

EPA ICR No. 1503.04; Data Acquisition for Registration; was approved 12/21/2001; OMB No. 2070-0122; expires 12/31/2004.

Short Term Extensions

EPA ICR No. 1432.20; Recordkeeping and Periodic Reporting of the Production, Import, Recycling, Destruction, Transhipment and Feedstock Use of Ozone-Depleting Substances; OMB No. 2060-0170; on 12/14/2001 OMB extended the expiration date through 01/30/2002.

EPA ICR No. 0783.40; Motor Vehicle Emission Standards and Emission Credits Provisions; in 40 CFR part 86; OMB No. 2060-0104; on 12/18/2001 OMB extended the expiration date through 02/28/2002.

Withdrawn/Continued

EPA ICR No. 1665.05; Final Rule for Elimination or Special Treatment for Category of Confidential Business Information; in 40 CFR part 2, subpart B; OMB No. 2020-0003; this ICR was withdrawn from OMB review.

Comment Filed

EPA ICR No. 1963.01; NESHAP for Source Categories: Generic Maximum Achievable Control Technology Standards; on 12/05/2001 OMB filed comment.

Dated: February 25, 2002.
Oscar Morales,
Director, Collection Strategies Division.

[FR Doc. 02-5183 Filed 3-4-02; 8:45 am]

BILLING CODE 6560-50-M